DEPARTMENT OF LABOR

Employment and Training Administration

[TA-W-83,085; TA-W-83,085A]

Keywell LLC, Frewsburg, New York and Keywell LLC, Falconer, New York; Amended Certification Regarding Eligibility To Apply for Worker Adjustment Assistance

In accordance with Section 223 of the Trade Act of 1974, as amended (“Act”), 19 U.S.C. 2273, the Department of Labor issued a Certification of Eligibility to Apply for Worker Adjustment Assistance on November 6, 2013, applicable to workers of Keywell LLC, Frewsburg, New York. The workers are engaged in activities related to the production of scrap stainless, titanium and high temperature alloys. The subject worker group includes workers engaged in employment related to the processing of the metals from scrap for use in other products for customers. The notice will be published soon in the Federal Register.

At the request of New York State agency, the Department reviewed the certification for workers of the subject firm. Information shows that the correct city location for 1873 Lyndon Boulevard is Falconer, New York not Frewsburg, New York as indicated on the petition. The original intent of the Chautauqua Workforce Office and the subject firm was to include the Frewsburg, New York and Falconer, New York locations of Keywell LLC in the certification determination.

The intent of the Department's certification is to include all workers of the subject firm who were adversely affected by increased company imports of scrap stainless steel, titanium and high temperature alloys.

Accordingly, the Department is amending the certification to include workers of the Frewsburg, New York and Falconer, New York locations of Keywell LLC.

The amended notice applicable to TA-W-83,085 and TA-W-83,085A are hereby issued as follows:

All workers of Keywell LLC, Frewsburg, New York (TA-W-83,085) and Keywell LLC, Falconer, New York (TA-W-83,085A), who became totally or partially separated from employment on or after September 10, 2012 through November 6, 2015, and all workers in the group threatened with total or partial separation from employment on the date of certification through two years from the date of certification, are eligible to apply for adjustment assistance under Chapter 2 of Title II of the Trade Act of 1974, as amended.

Signed in Washington, DC, this 27th day of November 2013.
Del Min Amy Chen,
Certifying Officer, Office of Trade Adjustment Assistance.

[FR Doc. 2013-29358 Filed 12-9-13; 8:45 am]

BILLING CODE 4510-FN-P